CONSUMER PRODUCT SAFETY COMMISSION

16 CFR Ch. II

Semiannual Regulatory Agenda

AGENCY: U.S. Consumer Product Safety Commission.

ACTION: Semiannual regulatory agenda.

SUMMARY: In this document, the Commission publishes its semiannual regulatory flexibility agenda. In addition, this document includes an agenda of regulations that the Commission expects to develop or review during the next year. This document meets the requirements of the Regulatory Flexibility Act and Executive Order 12866.

DATES: The Commission welcomes comments on the agenda and on the individual agenda entries. Submit comments to the Division of the Secretariat on or before September 7, 2022.

ADDRESSES: Caption comments on the regulatory agenda, “Regulatory Flexibility Agenda.” You can submit comments by email to: cpsc-os@cpsc.gov. You can also submit comments by mail or delivery to the Division of the Secretariat, U.S. Consumer Product Safety Commission, 4330 East West Highway, Bethesda, MD 20814-4408.

FOR FURTHER INFORMATION CONTACT: For further information on the agenda, in general, contact Meridith L. Kelsch, Office of the General Counsel, U.S. Consumer Product Safety Commission, 4330 East West Highway, Bethesda, MD 20814-4408, mkelsch@cpsc.gov. For further information regarding a particular item on the agenda, contact the person listed in the column titled, “Contact,” for that particular item.

SUPPLEMENTARY INFORMATION: The Regulatory Flexibility Act (RFA; 5 U.S.C. 601-612) contains several provisions intended to reduce unnecessary and disproportionate regulatory requirements on small businesses, small governmental organizations, and other small entities. Section 602 of the RFA requires each agency to publish, twice a year, a regulatory flexibility agenda containing “a brief description of the subject area of any rule which the agency expects to propose or promulgate which is likely to have a significant economic impact on a substantial number of small entities.” 5 U.S.C. 602. The agency must provide a summary of the nature of the rule, the objectives and legal basis for the rule, and an approximate schedule for acting on each rule for which the agency has issued a notice of proposed rulemaking. In addition, the regulatory flexibility agenda must contain the name and telephone number of an agency official who is knowledgeable about the listed items. Agencies must attempt to provide notice of their agendas to small entities and solicit their comments either by directly notifying them, or by including the agenda in publications that small entities are likely to obtain.

In addition, Executive Order 12866, Regulatory Planning and Review (Sep. 30, 1993), requires each agency to publish, twice a year, a regulatory agenda of regulations under development or review during the next year. 58 FR 51735 (Oct. 4, 1993). The Executive order states that agencies may combine this agenda with the regulatory flexibility agenda required under the RFA. The agenda required by Executive Order 12866 must include all of the regulations the agency expects to develop or review during the next 12 months, regardless of whether they may have a significant economic impact on a substantial number of small entities. This agenda also includes regulatory activities that the Commission listed in the fall 2021 agenda and completed before publishing this agenda.

The agenda contains a brief description and summary of each regulatory activity, including the objectives and legal basis for each; an approximate schedule of target dates, subject to revision, for developing or completing each activity; and the name and telephone number of an agency official who is knowledgeable about items in the agenda.

The internet is the primary means for disseminating the Unified Agenda. The complete Unified Agenda will be available online at: www.reginfo.gov, in a format that allows users to obtain information from the agenda database.

Because agencies must publish in the Federal Register the regulatory flexibility agenda required by the RFA (5 U.S.C. 602), the Commission's printed agenda entries include only:

(1) rules that are in the agency's regulatory flexibility agenda, in accordance with the RFA, because they are likely to have a significant economic impact on a substantial number of small entities; and

(2) rules that the agency has identified for periodic review under section 610 of the RFA.

The entries in the Commission's printed agenda are limited to fields that contain information that the RFA requires in an agenda. Additional information on these entries is available in the Unified Agenda published on the internet.

The agenda reflects the Commission's assessment of the likelihood that the specified event will occur during the next year; the precise dates for each rulemaking are uncertain. New information, changes of circumstances, or changes in the law, may alter anticipated timing. In addition, you should not infer from this agenda a final determination by the Commission or its staff regarding the need for, or the substance of, any rule or regulation.

Alberta E. Mills,
Secretary, Consumer Product Safety Commission.

Consumer Product Safety Commission—Proposed Rule Stage
Sequence No. | Title | Regulation Identifier No.
276 | Portable Generators | 3041-AC36

Consumer Product Safety Commission—Final Rule Stage
Sequence No. | Title | Regulation Identifier No.
277 | Regulatory Options for Table Saws | 3041-AC31
278 | Furniture Tip Overs: Clothing Storage Units | 3041-AD65
279 | Safety Standard for Magnets | 3041-AD82

Consumer Product Safety Commission—Long-Term Actions
Sequence No. | Title | Regulation Identifier No.
280 | Recreational Off-Road Vehicles | 3041-AC78

Consumer Product Safety Commission—Completed Actions
Sequence No. | Title | Regulation Identifier No.
281 | Petition Requesting Ban for Supplemental Mattresses for Play Yards With Non-Rigid Sides | 3041-AD52

CONSUMER PRODUCT SAFETY COMMISSION (CPSC)

Proposed Rule Stage

276. Portable Generators [3041-AC36]

Legal Authority: 15 U.S.C. 2051

Abstract: In 2006, the Commission issued an advance notice of proposed rulemaking (ANPRM) under the Consumer Product Safety Act (CPSA) concerning portable generators. The ANPRM discussed regulatory options that could reduce deaths and injuries related to portable generators, particularly those involving carbon monoxide (CO) poisoning. In fiscal year 2006, staff awarded a contract to develop a prototype generator engine with reduced CO in the exhaust. Also, in fiscal year 2006, staff entered into an interagency agreement (IAG) with the National Institute of Standards and Technology (NIST) to conduct tests with a generator, in both off-the-shelf and prototype configurations, operating in the garage attached to NIST's test house. In fiscal year 2009, staff entered into a second IAG with NIST with the goal of developing CO emission performance requirements for a possible proposed regulation that would be based on health effects criteria. After additional staff and contractor work, the Commission issued a notice of proposed rulemaking (NPRM) in 2016, proposing a performance standard that would limit the CO emission rates from operating portable generators. In 2018, two voluntary standards adopted different CO-mitigation requirements intended to address the CO poisoning hazard associated with portable generators. Staff developed a simulation and analysis plan to evaluate the effectiveness of those voluntary standards' requirements. In 2019, the Commission sought public comments on staff's plan. In August 2020, staff submitted to the Commission a draft notice of availability of the modified plan, based on staff's review and consideration of the comments, for evaluating the voluntary standards; the Commission published the notice of availability in August 2020. In February 2022, staff delivered a briefing package to the Commission with the results of the effectiveness analysis and information on the availability of compliant generators in the marketplace. Staff concluded that the CO hazard-mitigation requirements of one standard are more effective than the other, but conformance to either standard is low. Staff intends to propose that the Fiscal Year 2023 Operating Plan include delivering a rulemaking briefing package on portable generators to the Commission.

Timetable:

Action | Date | FR Cite
Staff Sent ANPRM to Commission | 07/06/06
Staff Sent Supplemental Material to Commission | 10/12/06
Commission Decision | 10/26/06
Staff Sent Draft ANPRM to Commission | 11/21/06
ANPRM | 12/12/06 | 71 FR 74472
ANPRM Comment Period End | 02/12/07
Staff Releases Research Report for Comment | 10/10/12
NPRM | 11/21/16 | 81 FR 83556
NPRM Comment Period Extended | 12/13/16 | 81 FR 89888
Public Hearing for Oral Comments | 03/08/17 | 82 FR 8907
NPRM Comment Period End | 04/24/17
Staff Sends Notice of Availability to the Commission | 06/26/19
Commission Decision | 07/02/19
Notice of Availability | 07/09/19 | 84 FR 32729
Staff Sends Notice of Availability to Commission | 08/12/20
Commission Decision | 08/19/20
Notice of Availability | 08/24/20 | 85 FR 52096
Staff Report on Effectiveness Evaluation of Voluntary Standards | 02/16/22
Staff Sends (S)NPRM to Commission | 01/00/23

Regulatory Flexibility Analysis Required: Yes.

Agency Contact: Janet L. Buyer, Project Manager, Directorate for Engineering Sciences, Consumer Product Safety Commission, National Product Testing and Evaluation Center, 5 Research Place, Rockville, MD 20850, Phone: 301 987-2293, Email: jbuyer@cpsc.gov.

RIN: 3041-AC36

CONSUMER PRODUCT SAFETY COMMISSION (CPSC)

Final Rule Stage

277. Regulatory Options for Table Saws [3041-AC31]

Legal Authority: 5 U.S.C. 553(e); 15 U.S.C. 2051

Abstract: In 2006, the Commission granted a petition asking that the Commission issue a rule to prescribe performance standards for an active injury mitigation (AIM) system to reduce or prevent injuries from contacting the blade of a table saw. The Commission subsequently issued a notice of proposed rulemaking (NPRM) that would establish a performance standard requiring table saws to limit the depth of cut to 3.5 millimeters when a test probe, acting as a surrogate for a human body/finger, contacts the table saw's spinning blade. Staff has conducted several studies to provide information for the rulemaking. Staff is working on a final rule briefing package.

Timetable:

Action | Date | FR Cite
Commission Decision to Grant Petition | 07/11/06
ANPRM | 10/11/11 | 76 FR 62678
Notice of Extension of Time for Comments | 12/02/11 | 76 FR 75504
Comment Period End | 02/10/12
Notice to Reopen Comment Period | 02/15/12 | 77 FR 8751
Reopened Comment Period End | 03/16/12
Staff Sent NPRM Briefing Package to Commission | 01/17/17
Commission Decision | 04/27/17
NPRM | 05/12/17 | 82 FR 22190
NPRM Comment Period End | 07/26/17
Public Hearing | 08/09/17 | 82 FR 31035
Staff Sent 2016 NEISS Table Saw Type Study Status Report to Commission | 08/15/17
Staff Sent 2017 NEISS Table Saw Special Study to Commission | 11/13/18
Notice of Availability of 2017 NEISS Table Saw Special Study | 12/04/18 | 83 FR 62561
Staff Sends a Status Briefing Package on Table Saws to Commission | 08/28/19
Commission Decision | 09/10/19
Staff Sends Final Rule Briefing Package to Commission | 09/00/22

Regulatory Flexibility Analysis Required: Yes.

Agency Contact: Caroleene Paul, Project Manager, Directorate for Engineering Sciences, Consumer Product Safety Commission, National Product Testing and Evaluation Center, 5 Research Place, Rockville, MD 20850, Phone: 301 987-2225, Email: cpaul@cpsc.gov.

RIN: 3041-AC31

278. Furniture Tip Overs: Clothing Storage Units [3041-AD65]

Legal Authority: 15 U.S.C. 2056; 15 U.S.C. 2058; 15 U.S.C. 2076(e)

Abstract: Based on direction in the Fiscal Year 2016 Operating Plan, staff submitted a briefing package to the Commission in September 2016, addressing furniture tip overs and focused, specifically, on clothing storage unit (CSU) tip overs. CPSC is aware of fatal and nonfatal incidents involving CSUs tipping over. The majority of incidents involve children. In November 2017, the Commission issued an advance notice of proposed rulemaking (ANPRM), seeking comments and initiating rulemaking under the Consumer Product Safety Act (15 U.S.C. 2051-2089). In July 2021, staff submitted a notice of proposed rulemaking (NPRM) briefing package to the Commission. On January 19, 2022, the Commission approved publication of an NPRM addressing CSU tip overs. The NPRM was published in the Federal Register on February 3, 2022. The written comment period closes on April 19, 2022. On February 9, 2022, the Commission received a request to extend the written comment period on the NPRM. On February 23, 2022, staff forwarded to the Commission a draft notice to extend the written comment period. On March 1, 2022, the Commission voted not to extend the written comment period. On February 16, 2022, staff submitted to the Commission a draft notice announcing the opportunity for interested parties to make oral comments on the NPRM. On February 23, 2022, the Commission voted to approve publication of the oral comment notice. The oral comment notice was published in the Federal Register on March 1, 2022, announcing that the Commission would hold the hearing on April 6, 2022. After reviewing comments on the NPRM, staff will work on a final rule briefing package.

Timetable:

Action | Date | FR Cite
Staff Sent Briefing Package to Commission | 09/30/16
Staff Sent ANPRM Briefing Package to Commission | 11/15/17
Commission Decision on ANPRM | 11/21/17
ANPRM | 11/30/17 | 82 FR 56752
Comment Period Extended | 01/17/18 | 83 FR 2382
Comment Period End | 04/14/18
Staff Sent NPRM Briefing Package to Commission | 07/14/21
Commission Decision on NPRM | 01/19/22
NPRM | 02/03/22 | 87 FR 6246
Draft Notice of Oral Comment Hearing to Commission | 02/16/22
Commission Decision on Notice of Oral Comment Hearing | 02/23/22
Draft FR Notice to Commission to Extend NPRM Comment Period | 02/23/22
Commission Decision Not To Extend Comment Period | 03/01/22
Notice of Oral Comment Hearing | 03/01/22 | 87 FR 11366
Oral Comment Hearing | 04/06/22
End of NPRM Comment Period | 04/19/22
Staff Sends Final Rule Briefing Package to Commission | 09/00/22

Regulatory Flexibility Analysis Required: Yes.

Agency Contact: Kristen Talcott, Project Manager, Directorate for Engineering Sciences, Consumer Product Safety Commission, National Product Testing and Evaluation Center, 5 Research Place, Rockville, MD 20850, Phone: 301 987-2311, Email: ktalcott@cpsc.gov.

RIN: 3041-AD65

279. Safety Standard for Magnets [3041-AD82]

Legal Authority: 15 U.S.C. 553; 15 U.S.C. 2056; 15 U.S.C. 2058

Abstract: Based on direction in the Commission's Fiscal Year 2021 Operating Plan, staff submitted a notice of proposed rulemaking (NPRM) briefing package to the Commission on October 6, 2021, to address the internal interaction hazard associated with ingestion of small, powerful magnets. On December 14, 2021, the Commission voted to approve publication of the NPRM. On January 10, 2022, the NPRM was published in the Federal Register, seeking comments and initiating rulemaking under the Consumer Product Safety Act (15 U.S.C. 2051-2089). The written comment period on the NPRM closed on March 28, 2022. On February 2, 2022, staff submitted to the Commission a draft notice announcing the opportunity for interested parties to make oral comments on the NPRM. On February 8, 2022, the Commission voted to approve publication of the oral comment notice. The oral comment notice was published in the Federal Register on February 15, 2022, indicating that requests to present at the oral hearing had to be provided by February 23, 2022. The Commission held the hearing on March 2, 2022. After reviewing comments on the NPRM and incident data, among other considerations, staff will complete a final rule briefing package.

Timetable:

Action | Date | FR Cite
Staff Sends NPRM Briefing Package to Commission | 10/06/21
Commission Decision | 12/14/21
NPRM | 01/10/22 | 87 FR 1260
Staff Sends Hearing Notice to Commission | 02/02/22
Commission Decision on Notice of Hearing | 02/08/22
Notice of Hearing | 02/15/22 | 87 FR 8442
Oral Comment Hearing | 03/02/22
End of NPRM Comment Period | 03/28/22
Staff Sends Final Rule Briefing Package to Commission | 09/00/22

Regulatory Flexibility Analysis Required: Yes.

Agency Contact: Stephen Harsanyi, Project Manager, Directorate for Engineering Sciences, Consumer Product Safety Commission, National Product Testing and Evaluation Center, 5 Research Place, Rockville, MD 20850, Phone: 301 987-2209, Email: sharsanyi@cpsc.gov.

RIN: 3041-AD82

CONSUMER PRODUCT SAFETY COMMISSION (CPSC)

Long-Term Actions

280. Recreational Off-Road Vehicles [3041-AC78]

Legal Authority: 15 U.S.C. 2056; 15 U.S.C. 2058

Abstract: The Commission is considering whether recreational off-road vehicles (ROVs) present an unreasonable risk of injury that should be regulated. Staff conducted testing and evaluation programs to develop performance requirements addressing vehicle stability, vehicle handling, and occupant protection. In 2014, the Commission issued a notice of proposed rulemaking (NPRM) proposing standards addressing vehicle stability, vehicle handling, and occupant protection. Congress directed in fiscal year 2016, and reaffirmed in subsequent fiscal year appropriations, that none of the amounts made available by the Appropriations Bill may be used to finalize or implement the proposed Safety Standard for Recreational Off-Highway Vehicles until after the National Academy of Sciences completes a study to determine specific information, as set forth in the Appropriations Bill. Staff ceased work on a Final Rule briefing package and instead engaged the Recreational Off-Highway Vehicle Association (ROHVA) and Outdoor Power Equipment Institute (OPEI) in the development of voluntary standards for ROVs. Staff conducted dynamic and static tests on ROVs, shared test results with ROHVA and OPEI, and participated in the development of revised voluntary standards to address staff's concerns with vehicle stability, vehicle handling, and occupant protection. The voluntary standards for ROVs were revised and published in 2016 (ANSI/ROHVA 1-2016 and ANSI/OPEI B71.9-2016). Staff assessed the new voluntary standard requirements and prepared a termination of rulemaking briefing package that was submitted to the Commission on November 22, 2016. The Commission voted not to terminate the rulemaking associated with ROVs. In the Fiscal Year 2020 Operating Plan, the Commission directed staff to prepare a rulemaking termination briefing package. Staff submitted a briefing package to the Commission on September 16, 2020 that recommended termination of the rulemaking. On September 22, 2020, the Commission voted 2-2 on this matter. A majority was not reached and no action is being taken.

Timetable:

Action | Date | FR Cite
Staff Sends ANPRM Briefing Package to Commission | 10/07/09
Commission Decision | 10/21/09
ANPRM | 10/28/09 | 74 FR 55495
ANPRM Comment Period Extended | 12/22/09 | 74 FR 67987
Extended Comment Period End | 03/15/10
Staff Sends NPRM Briefing Package to Commission | 09/24/14
Staff Sends Supplemental Information on ROVs to Commission | 10/17/14
Commission Decision | 10/29/14
NPRM Published in Federal Register | 11/19/14 | 79 FR 68964
NPRM Comment Period Extended | 01/23/15 | 80 FR 3535
Extended Comment Period End | 04/08/15
Staff Sends Briefing Package Assessing Voluntary Standards to Commission | 11/22/16
Commission Decision Not to Terminate | 01/25/17
Staff Sends Briefing Package to Commission | 09/16/20
Commission Decision: Majority Not Reached, No Action Will be Taken | 09/22/20
Next Step Undetermined | To Be Determined

Regulatory Flexibility Analysis Required: Yes.

Agency Contact: Caroleene Paul, Project Manager, Directorate for Engineering Sciences, Consumer Product Safety Commission, National Product Testing and Evaluation Center, 5 Research Place, Rockville, MD 20850, Phone: 301 987-2225, Email: cpaul@cpsc.gov.

RIN: 3041-AC78

CONSUMER PRODUCT SAFETY COMMISSION (CPSC)

Completed Actions

281. Petition Requesting Ban for Supplemental Mattresses for Play Yards With Non-Rigid Sides [3041-AD52]

Legal Authority: Pub. L. 110-314, sec. 104

Abstract: The Commission received a petition requesting that the Commission initiate rulemaking under section 8 of the CPSA to ban supplemental mattresses for play yards with non-rigid sides, which are currently marketed to be used with non-full-size cribs, play yards, portable cribs, and playpens. After obtaining comments on the petition, the Commission voted to “take other action” on the petition, granting the petition but directing staff to initiate a rulemaking under section 104 of the Consumer Product Safety Improvement Act to promulgate a mandatory standard that will address the risk of injury associated with the use of crib mattresses, as well as supplemental and aftermarket mattresses used in play yards and portable cribs. The Commission assessed the effectiveness of applicable voluntary standards, and in accordance with the Administrative Procedure Act, promulgated a consumer product safety standard that incorporates the relevant voluntary standard, with additional requirements to make the standard more stringent, to further reduce the risk of injury associated with the product. The Commission issued a notice of proposed rulemaking (NPRM) for crib mattresses in October 2020, to address hazards associated with full-size crib mattresses, non-full-size mattresses, and after-market mattresses for play yards and non-full-size crib mattresses. Staff sent a final rule briefing package to the Commission in September 2021. On December 1, 2021, staff briefed the Commission on the final rule, and on January 26, 2022, the Commission voted (4-0) to issue the final rule. The final rule requires after-market mattresses for play yards to meet the same requirements as original equipment manufacturer (OEM) play yard mattresses. Staff continues to work with the voluntary standards committee on play yards, to address hazards associated with OEM and after-market play yard mattress fit and thickness.

Timetable:

Action | Date | FR Cite
Petition Docketed | 07/29/15
Notice Published in Federal Register | 08/11/15 | 80 FR 48043
Comment Period End | 10/13/15
Staff Sends Briefing Package to Commission | 05/10/17
Commission Decision | 05/25/17
Staff Sends Crib Mattresses NPRM Briefing Package to Commission | 09/30/20
Commission Publishes Crib Mattresses NPRM in Federal Register | 10/26/20 | 85 FR 67906
NPRM Comment Period End | 01/11/21
Staff Sends Crib Mattresses Final Rule Briefing Package to Commission | 09/22/21
Commission Decision | 01/26/22
Commission Publishes Final Rule in Federal Register | 02/15/22 | 87 FR 8640

Regulatory Flexibility Analysis Required: Yes.

Agency Contact: Frederick DeGrano, Project Manager, Directorate for Engineering Sciences, Consumer Product Safety Commission, National Product Testing and Evaluation Center, 5 Research Place, Rockville, MD 20850, Phone: 301 987-2711, Email: fdegrano@cpsc.gov.

RIN: 3041-AD52.

[FR Doc. 2022-14617 Filed 8-5-22; 8:45 am]

BILLING CODE 6355-01-P